FEDERAL MARITIME COMMISSION

Ocean Transportation Intermediary Licenses; Corrections

In the Federal Register notices published March 9, 2005 (70 FR 11661), and March 2, 2005 (70 FR 10094), references to Transatlantic Shipping, Inc. and B.F. Shipping are corrected to read:

“Trans Atlantic Shipping, Inc.”

“B.F Investments and Consulting, Inc. dba B.F Investments”

Dated: March 11, 2005.
Bryant L. VanBrakle,
Secretary.

[FR Doc. 05-5176 Filed 3-15-05; 8:45 am]

BILLING CODE 6730-01-P